DEPARTMENT OF TRANSPORTATION

Federal Aviation Administration

14 CFR Part 39

[Docket No. FAA-2005-22403; Directorate Identifier 2005-NM-144-AD]

RIN 2120-AA64

Airworthiness Directives; Bombardier Model DHC-8-400 Series Airplanes

AGENCY: Federal Aviation Administration (FAA), Department of Transportation (DOT).

ACTION: Notice of proposed rulemaking (NPRM); correction.

SUMMARY: The FAA is correcting a typographical error in an NPRM that was published in the Federal Register on September 14, 2005 (70 FR 54316). The error resulted in an incorrect Docket No. The NPRM applies to certain Bombardier Model DHC-8-400 series airplanes. The NPRM would require an inspection of the laminated shims for cracks, damage, or extrusion between the forward attachment fittings of the horizontal stabilizer and the top rib of the vertical stabilizer; a torque check of the attachment bolts in the attachment fittings of the front, middle, and rear spars; and corrective actions if necessary.

FOR FURTHER INFORMATION CONTACT: George Duckett, Aerospace Engineer, Airframe and Propulsion Branch, ANE-171, FAA, New York Aircraft Certification Office, 1600 Stewart Avenue, suite 410, Westbury, New York 11590; telephone (516) 256-7525; fax (516) 794-5531.

SUPPLEMENTARY INFORMATION: On September 6, 2005, the FAA issued a notice of proposed rulemaking (NPRM) to amend 14 CFR part 39 to include an AD that would apply to certain Bombardier Model DHC-8-400 series airplanes. That NPRM was published in the Federal Register on September 14, 2005 (70 FR 54316). That NPRM proposed to require an inspection of the laminated shims for cracks, damage, or extrusion between the forward attachment fittings of the horizontal stabilizer and the top rib of the vertical stabilizer; a torque check of the attachment bolts in the attachment fittings of the front, middle, and rear spars; and corrective actions if necessary.

As published, that NPRM specifies an incorrect Docket No. (i.e., FAA-2005-20403) throughout preamble and the regulatory text of the AD. The correct Docket No. is FAA-2005-22403.

No other part of the regulatory information has been changed; therefore, the NPRM is not republished in the Federal Register.

The last date for submitting comments to the NPRM remains October 14, 2005.

§ 39.13 [Corrected]

In the Federal Register of September 14, 2005, on page 54318, in the first column, paragraph 2. of PART 39—AIRWORTHINESS DIRECTIVES of NPRM, Docket No. FAA-2005-22403, Directorate Identifier 2005-NM-144-AD is corrected to read as follows:

* * * * *

Bombardier, Inc. (Formerly de Havilland, Inc.): Docket No. FAA-2005-22403; Directorate Identifier 2005-NM-144-AD.

* * * * *

Issued in Renton, Washington, on September 26, 2005.
Ali Bahrami,
Manager, Transport Airplane Directorate, Aircraft Certification Service.

[FR Doc. 05-19558 Filed 9-29-05; 8:45 am]

BILLING CODE 4910-13-P